DEPARTMENT OF THE INTERIOR

National Park Service

[NPS-WASO-NRNHL-DTS#-33243; PPWOCRADI0, PCU00RP14.R50000]

National Register of Historic Places; Notification of Pending Nominations and Related Actions

AGENCY: National Park Service, Interior.

ACTION: Notice.

SUMMARY: The National Park Service is soliciting electronic comments on the significance of properties nominated before January 1, 2022, for listing or related actions in the National Register of Historic Places.

DATES: Comments should be submitted electronically by January 26, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 1, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Orchard River Garden Park, 5701 East Glenn St., Tucson, SG100007418

NEW YORK

Allegany County

Reynolds House, The, 56 West University St., Alfred, SG100007412

Jefferson County

Thousand Island Park Historic District (Boundary Increase/Decrease), Generally bounded by Coast Ave. East, Coast Ave. West, Prospect Ave., Park Ave., and Sunset Ave., Thousand Island Park, BC100007414

Lewis County

Basselin House, 9757 NY 812, Croghan, SG100007408

New York County

Wald, Lillian, House, 265 and 267 Henry St., New York, SG100007409

Mary McLeod Bethune Gardens, 1945 Amsterdam Ave., Manhattan, SG100007411

OHIO

Cuyahoga County

Euclid Avenue Christian Church, (Twentieth-Century African American Civil Rights Movement in Ohio MPS), 9990 Euclid Ave., Cleveland, MP100007415

Hamilton County

Dombar, Benjamin, House and Studio, 601 West Galbraith Rd., Cincinnati, SG100007410

PENNSYLVANIA

Allegheny County

Western State Penitentiary-Riverside Penitentiary, 3001 New Beaver Ave., Pittsburgh, SG100007417

SOUTH DAKOTA

Davison County

Mount Vernon City Auditorium, (Federal Relief Construction in South Dakota MPS), Main St. and East 1st Ave., Mount Vernon, MP100007416

Additional documentation has been received for the following resource:

NEW YORK

Jefferson County

Thousand Island Park Historic District (Additional Documentation), Generally bounded by Coast Ave. East, Coast Ave. West, Prospect Ave., Park Ave., and Sunset Ave., Thousand Island Park, AD82001177

Authority: Section 60.13 of 36 CFR part 60.

Dated: January 1, 2022.
Sherry A. Frear,
Chief, National Register of Historic Places/National Historic Landmarks Program.

[FR Doc. 2022-00250 Filed 1-10-22; 8:45 am]

BILLING CODE 4312-52-P